DEPARTMENT OF LABOR

Office of the Secretary

Submission for OMB Review; Comment Request

September 24, 2001.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation contact Marlene Howze at ((202) 693-4158 or Email Howze-Marlene@dol.gov.

Comments should be sent to Office of Information and Regulatory Affairs, Attn: OMB Desk Officer for BLS, Office of Management and Budget, Room 10235, Washington, DC 20503 ((202) 395-7316), within 30 days from the date of this publication in the Federal Register.

The OMB is particularly interested in comments which:

• Evaluate whether the proposed collection of information is necessary for the proper performance of functions of the agency, including whether the information will have practical utility;

• Evaluate the accuracy of the agency's estimate of the burden of the proposed collection of information, including the validity of the methodology and assumptions used;

• Enhance the quality, utility, and clarity of the information to be collected; and minimize the burden of the collection of information on those who are to respond, including through the use of appropriate automated, electronic, mechanical, or other technological collection techniques or other forms of information technology, e.g., permitting electronic submission of responses.

Type of Review: Reinstatement, with change, of a previously approved collection for which approval has expired.

Agency: Bureau of Labor Statistics (BLS).

Title: CPS Displaced Worker, Job Tenure, and Occupational Mobility Supplement.

OMB Number: 1220-0104.

Affected Public: Individuals or households.

Frequency: Biennially.

Number of Respondents: 58,000.

Number of Annual Responses: 58,000.

Estimated Time Per Response: 10 to 15 minutes (with an average of 8 minutes)

Total Burden Hours: 7,733.

Total Annualized Capital/Startup Costs: $0.

Total Annual Costs (operating/maintaining systems or purchasing services): $0.

Description: The Current Population Survey (CPS) has been the principal source of the official Government statistics on employment and unemployment for nearly 60 years. Collection of labor force data through the CPS helps the Department of Labor meet its mandate as set forth in Title 29, United States Code, Sections 1 through 9. The information collected will evaluate the size and nature of the population affected by job displacements, and hence, the needs and scope of job training programs serving adult displaced workers. These data will measure the severity of the displacement problem and assess employment stability.

Ira L. Mills,
DOL Clearance Officer.

[FR Doc. 01-25941 Filed 10-15-01; 8:45 am]

BILLING CODE 4510-24-M